DEPARTMENT OF COMMERCE

National Oceanic and Atmospheric Administration

15 CFR Part 922

[Docket No. 100827401-0619-01]

RIN 0648-BA20

Olympic Coast National Marine Sanctuary Regulations Revisions

AGENCY: Office of National Marine Sanctuaries (ONMS), National Ocean Service (NOS), National Oceanic and Atmospheric Administration (NOAA), Department of Commerce (DOC).

ACTION: Extension of public comment period.

SUMMARY: On January 14, 2011, NOAA published a proposed rule in the Federal Register to revise the regulations for the Olympic Coast National Marine Sanctuary (76 FR 2611). This notice extends the public comment period stated in that proposed rule by an additional 10 days.

DATES: NOAA will accept public comments on the proposed rule published at 76 FR 2611 (January 14, 2011) through March 25, 2011. Dates, times, and location of the public hearings mentioned in that proposed rule have not changed.

ADDRESSES: The instructions for submitting comments are detailed in the proposed rule published on January 14, 2011 (76 FR 2611).

FOR FURTHER INFORMATION CONTACT: George Galasso at (360) 457-6622, extension 12.

Dated: January 28, 2011.
Daniel J. Basta,
Director, Office of National Marine Sanctuaries.

[FR Doc. 2011-2453 Filed 2-3-11; 8:45 am]

BILLING CODE 3510-NK-M